DEPARTMENT OF THE INTERIOR

Bureau of Indian Affairs

Extending the Review Period for the Final Environmental Impact Statement (FEIS) for the Proposed Spokane Tribe of Indians West Plains Casino and Mixed Use Project, City of Airway Heights, Spokane County, Washington

AGENCY: Bureau of Indian Affairs, Interior.

ACTION: Notice.

SUMMARY: The Bureau of Indian Affairs (BIA) is extending the review period for the Final Environmental Impact Statement (FEIS) for the Spokane Tribe of Indians West Plains Casino and Mixed Use Project, City of Airway Heights, Spokane County, Washington.

DATES: Comments related to the FEIS must be received by the BIA by May 1, 2013. The Record of Decision on the proposed action will be issued on or after that date.

FOR FURTHER INFORMATION CONTACT: Dr. B.J. Howerton, Bureau of Indian Affairs, Northwest Region, 911 Northeast 11th Avenue, Portland, Oregon 97232; fax (503) 231-2275; phone (503) 231-6749.

SUPPLEMENTARY INFORMATION: The BIA published a Notice of Availability for the FEIS in the Federal Register on February 1, 2013 (78 FR 7448) and ended the review period on March 4, 2013. The BIA is extending the review period to May 1, 2013. Please refer to the February 1, 2013 Federal Register (78 FR 7448) notice for project details and commenting instructions.

Dated: March 1, 2013.
Kevin K. Washburn,
Assistant Secretary—Indian Affairs.

[FR Doc. 2013-05399 Filed 3-7-13; 8:45 am]

BILLING CODE 4310-W7-P